DEPARTMENT OF STATE

[Public Notice 6654]

60-Day Notice of Proposed Information Collection: DS-3013 and 3013-s, Application Under the Hague Convention on the Civil Aspects of International Child Abduction, OMB 1405-0076

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Application Under the Hague Convention on the Civil Aspects of International Child Abduction

• OMB Control Number: 1405-0076

• Type of Request: Revision

• Originating Office: CA/OCS/PRI

• Form Number: DS-3013, 3013-s

• Respondents: Person seeking return of or access to child

• Estimated Number of Respondents: 2,355

• Estimated Number of Responses: 2,355

• Average Hours per Response: 1 hour

• Total Estimated Burden: 2,355

• Frequency: On occasion

• Obligation to Respond: Voluntary

DATES: The Department will accept comments from the public up to 60 days from August 7, 2009.

ADDRESSES: You may submit comments by any of the following methods:

• E-mail: ASKPRI@state.gov.

• Mail (paper, disk, or CD-ROM submissions): U.S. Department of State, CA/OCS/PRI, SA-29, 4th Floor, Washington, DC 20520

• Fax: (202) 736-9111

You must include the DS form number (if applicable), information collection title, and OMB control number in any correspondence.

FOR FURTHER INFORMATION CONTACT: Requests for additional information regarding the collection listed in this notice, including requests for copies of the proposed information collection should be made to Derek A. Rivers, Bureau of Consular Affairs, Overseas Citizens Services (CA/OCS/PRI), U.S. Department of State, SA-29, 4th Floor, Washington, DC 20520, who may be reached on (202) 736-9082 or ASKPRI@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The Application Under the Hague Convention on the Civil Aspects of International Child Abduction (DS-3013 and DS 3013-s) is used by parents or legal guardians who are asking the State Department's assistance in seeking the return of, or access to, a child or children alleged to be wrongfully removed from or retained outside of the child's habitual residence and currently located in another country that is also party to the Hague Convention on the Civil Aspects of International Child Abduction. The application requests information regarding the identities of the applicant, the child or children, and the person alleged to have wrongfully removed or retained the child or children. In addition, the application requires that the applicant provide the circumstances of the alleged wrongful removal or retention and the legal justification for the request for return or access. The State Department, as the U.S. Central Authority, uses this information to establish, if possible, the applicants' claims under the Convention; to advise applicants about available remedies under the Convention; and to provide the information necessary to the foreign Central Authority in its efforts to locate the child or children, and to facilitate return of or access to the child or children pursuant to the Convention.

Methodology: The completed form DS-3013 and DS 3013-s may be submitted to the Office of Children's Issues by mail, by fax, or electronically through http://www.travel.state.gov.

Dated: May 20, 2009.
Mary Ellen Hickey,
Managing Director, Bureau of Consular Affairs, Department of State.

[FR Doc. E9-13337 Filed 6-5-09; 8:45 am]

BILLING CODE 4710-06-P